POSTAL SERVICE

39 CFR Part 111

Ballot Mail Ancillary Service Endorsements

AGENCY: Postal Service™.

ACTION: Final rule.

SUMMARY: The Postal Service is amending Mailing Standards of the United States Postal Service, Domestic Mail Manual (DMM®) subsections 507.1.5.1 and 507.1.5.3, to remove Change Service Requested, as an ancillary service endorsement option for Ballot Mail.

DATES: Effective date: January 21, 2024.

FOR FURTHER INFORMATION CONTACT: Emily Matyas (202) 826-7157 or Garry Rodriguez at (202) 268-7281.

SUPPLEMENTARY INFORMATION: On September 29, 2023, the Postal Service published a notice of proposed rulemaking (88 FR 67159) to remove Change Service Requested, Option 1, as an ancillary service endorsement option for Ballot Mail. The Postal Service did not receive any formal comments.

The Postal Service is clarifying that the notice of proposed rulemaking focused on removing “Change Service Requested”, Option 1 and that Change Service Requested, Option 2 was not originally included in the Ballot Mail Ancillary Service Endorsement Federal Register Notice because Change Service Requested, Option 2 was never associated with any Ballot Mail STIDs. Only Change Service Requested, Option 1 was available for use. However, both Change Service Requested Options 1 and 2 permit all mailpieces that are undeliverable-as-addressed to be disposed of and it against postal policy to dispose of any ballot mailpiece. The Postal Service is providing a clarification, to avoid any misunderstanding, that will state that the endorsement “Change Service Requested”, is not available for Ballot Mail.

Ballot Mail that is undeliverable as addressed must be forwarded to the voter if a Change of Address notice is on file or returned to the election office that sent the Ballot Mail.

We believe this revision will provide a more efficient mailing experience.

The Postal Service adopts the described changes to Mailing Standards of the United States Postal Service, Domestic Mail Manual (DMM), incorporated by reference in the Code of Federal Regulations.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

500 Additional Mailing Services

* * * * *

507 Mailer Services

1.0 Treatment of Mail

* * * * *

1.5 Treatment for Ancillary Services by Class of Mail

1.5.1 First-Class Mail, USPS Ground Advantage—Retail, USPS Ground Advantage—Commercial, and Priority Mail

Undeliverable-as-addressed First-Class Mail (including postcards), USPS Ground Advantage—Retail, USPS Ground Advantage—Commercial, and Priority Mail pieces are treated under Exhibit 1.5.1, with these additional conditions:

* * * * *

e. “Change Service Requested” is not permitted for the following:

[Revise item e by adding a new item e4 to read as follows:

* * * * *

4. First-Class Mail pieces containing Ballot Mail under 703.8.0.

* * * * *

Exhibit 1.5.1 Treatment of Undeliverable First-Class Mail, USPS Ground Advantage—Retail, USPS Ground Advantage—Commercial and Priority Mail

Mailer endorsement | USPS treatment of UAA pieces
* * * * *
Change Service Requested
* * * * *
Restrictions (for Options 1 and 2) | The following restrictions apply:

[Revise the “Change Service Requested” “Restrictions” section by adding a new number 3 to read as follows:]

3. This endorsement is not valid for Ballot Mail under 703.8.0.

* * * * *

1.5.3 USPS Marketing Mail and Parcel Select Lightweight

Undeliverable-as-addressed (UAA) USPS Marketing Mail and Parcel Select Lightweight pieces are treated as described in Exhibit 1.5.3, with these additional conditions:

* * * * *

[Revise the text of item c to read as follows:]

c. The endorsement “Change Service Requested” is not permitted for the following:

1. Pieces containing hazardous materials under 601.8.0. Pieces containing hazardous materials must bear the endorsement “Address Service Requested,” “Forwarding Service Requested,” or “Return Service Requested.”

2. Pieces containing Ballot Mail under 703.8.0.

* * * * *

Exhibit 1.5.3 Treatment of Undeliverable USPS Marketing Mail and Parcel Select Lightweight

Mailer endorsement | USPS treatment of UAA pieces
* * * * *
“Change Service Requested” 1 4 | Option 1.

Restrictions:

The following restrictions apply:

* * * * *

[Revise the “Change Service Requested” Option 1 “Restrictions” section by adding a new number 3 to read as follows:]

3. This endorsement is not valid for Ballot Mail under 703.8.0.

* * * * *

Option 2

* * * * *

Restrictions:

The following restrictions apply:

* * * * *

[Revise the “Change Service Requested” Option 2 “Restrictions” section by adding a new number 3 to read as follows:]

3. This endorsement is not valid for Ballot Mail under 703.8.0.

* * * * *

Colleen Hibbert-Kapler,
Attorney, Ethics and Legal Compliance.

[FR Doc. 2023-25569 Filed 11-17-23; 8:45 am]

BILLING CODE P